DEPARTMENT OF TRANSPORTATION

Surface Transportation Board

[STB Finance Docket No. 29653 (Sub-No. 8)]

Ferrocarril Mexicano, S.A. de C.V.—Pooling of Car Service Regarding Multilevel Cars

AGENCY: Surface Transportation Board.

ACTION: Notice of filing of application.

SUMMARY: Ferrocarril Mexicano, S.A. de C.V. (Ferromex), has filed an application seeking approval for its participation in an existing railroad agreement for the pooling of services related to multilevel cars used to transport motor vehicles and boxcars used to transport automobile parts. Ferromex is a common carrier engaged in the transportation of property by railroad in Mexico. Its participation in the pooling agreement will be limited to international traffic moving between points in Mexico, the United States, and Canada.

DATES: Any comments on the application must be filed by November 20, 2000.

ADDRESSES: Send an original plus 10 copies of any comments, referring to STB Finance Docket No. 29653 (Sub-No. 8), to the Surface Transportation Board, Office of the Secretary, Case Control Unit, 1925 K Street, N.W., Washington, DC 20423-0001. In addition, send one copy of any comments to: (1) the U.S. Department of Justice, Antitrust Division, 10th Street & Pennsylvania Avenue, N.W., Washington, DC 20530; and (2) Juan Manuel Correa Cuellar, Bosque de Ciruelos No. 99, Col. Bosques de las Lomas, Mexico City, MX 11700.

FOR FURTHER INFORMATION CONTACT: Beryl Gordon, (202) 565-1600. [TDD for the hearing impaired: 1-800-877-8339.]

SUPPLEMENTARY INFORMATION: Under 49 U.S.C. 11322, the Board may approve pooling agreements that are voluntarily entered into by carriers, provided that the pooling or division of traffic, services, or earnings will be in the interest of better service to the public or of economy of operation and will not unreasonably restrain competition. The pooling agreement that Ferromex seeks to join was originally approved by the Board's predecessor, the Interstate Commerce Commission (ICC), in The Baltimore and Ohio Railroad Company, et al.—Pooling of Car Service Regarding Multi-Level Cars, Finance Docket No. 29653 (ICC served Aug. 29, 1981). That agreement applied only to multilevel cars. Subsequently, the ICC approved amendments to the agreement authorizing the pooling of railroad services in auto-parts boxcars in The Baltimore and Ohio Railroad Company, et al.—Pooling of Car Service Regarding Multi-Level Cars, Finance Docket No. 29653 (Sub-No. 3) (ICC served Apr. 18, 1986). The agreement was amended in The Baltimore and Ohio Railroad Company, et al.—Pooling of Car Service Regarding Multilevel Cars, Finance Docket No. 29653 (Sub-No. 6) (ICC served June 30, 1995), to enable railroads and shippers to obtain and use information that they otherwise would not have, thereby allowing pool members to increase the efficiency of distribution of the multilevel car fleet and minimize unnecessary investment. Other modifications included adding additional carriers to the pool, such as Canadian Pacific Limited in The Baltimore and Ohio Railroad Company, et al.—Pooling of Car Service Regarding Multi-Level Cars, Finance Docket No. 29653 (Sub-No. 1) (ICC served Apr. 12, 1983), Canadian National Railway Company in The Baltimore and Ohio Railroad Company, et al.—Pooling of Car Service Regarding Multi-Level Cars, Finance Docket No. 29653 (Sub-No. 2) (ICC served May 12, 1983), and Transportacion Ferroviaria Mexicana in Transportacion Ferroviaria Mexicana—Pooling of Car Service Regarding Multilevel Cars, Finance Docket No. 29653 (Sub-No. 7) (STB served Sept 28, 1999).

Decided: October 12, 2000.
By the Board, David M. Konschnik, Director, Office of Proceedings.
Vernon A. Williams,
Secretary.

[FR Doc. 00-26916 Filed 10-18-00; 8:45 am]

BILLING CODE 4915-00-P